DEPARTMENT OF HEALTH AND HUMAN SERVICES

National Institutes of Health

Request for Information To Solicit Feedback on the Brain Research Through Advancing Innovative Neurotechnologies (BRAIN) Initiative

AGENCY: National Institutes for Health, HHS.

ACTION: Notice.

SUMMARY: The purpose of this Request for Information (RFI) is to solicit input on how best to accomplish the ambitious vision for the Brain Research through Advancing Innovative Neurotechnologies (BRAIN) Initiative® set forth in BRAIN 2025: A Scientific Vision. NIH is soliciting input from all interested stakeholders, including members of the scientific community, trainees, academic institutions, the private sector, health professionals, professional societies, advocacy groups, and patient communities, as well as other interested members of the public.

DATES: The Request for Information is open for public comment. To assure consideration, your responded must be received by November 15, 2018, 11:59 p.m.

ADDRESSES: Responses to this RFI must be submitted electronically using the web-based form at https://www.braininitiative.nih.gov/rfi.aspx.

FOR FURTHER INFORMATION CONTACT: Please direct all inquiries to Samantha White, Ph.D., National Institute of Neurological Disorders and Stroke, 301-496-1675; BRAINFeedback@nih.gov with “BRAIN RFI” in the subject line.

SUPPLEMENTARY INFORMATION:

Background

The BRAIN Initiative aims to develop new tools and technologies to understand and manipulate networks of cells in the brain. BRAIN 2025: A Scientific Vision serves as the strategic plan for the BRAIN Initiative at NIH and outlines an overarching vision, seven high level scientific priorities, and many specific goals. Designed to be achieved over at least a decade, the first five years of BRAIN 2025 emphasizes development of tools and technology, and the next five years shifts emphasis to using these tools to make fundamental discoveries about how brain circuits work and what goes wrong in disease.

The BRAIN Initiative is well underway (see http://www.braininitiative.nih.gov), and we are now approaching the midpoint. At this time, NIH is seeking feedback on the BRAIN Initiative's progress and on opportunities moving forward given the current state of the science. NIH has established a new BRAIN Initiative Advisory Committee of the NIH Director (ACD) Working Group that will provide scientific guidance to the ACD on how best to continue to accelerate the ambitious vision for the BRAIN Initiative.

The ACD-WG will use the responses to this RFI, along with information gathered through a series of public workshops, to help inform their discussions of the BRAIN Initiative's progress and potential updates to the plan moving forward.

Information Requested

Anyone wishing to submit a response is asked to include:

• Ideas for new tools and technologies that have the potential to transform brain circuit research.

• Suggestions for fundamental questions about brain circuit function in humans or animal models that could be addressed with new technologies.

• Considerations for data sharing infrastructure and policies.

• Areas and topics for research on the ethical implications of BRAIN Initiative-supported emerging neurotechnologies and advancements and their applications.

• Approaches for disseminating new tools and technologies as well as training the broader neuroscience research community.

• Any other topic relevant to the strategic plan of the BRAIN Initiative.

Responses to this RFI are voluntary. Any personal identifiers will be removed when responses are compiled. Individual feedback will not be provided to any responder. Proprietary, classified, confidential, or sensitive information should not be included in your response. This Request for Information (RFI) is for planning purposes only and is not a solicitation for applications or an obligation on the part of the United States (U.S.) Government to provide support for any ideas identified in response to it. Please note that the U.S. Government will not pay for the preparation of any comment submitted or for its use of that comment.

Dated: August 10, 2018.
Lawrence A. Tabak,
Deputy Director, National Institutes of Health.

[FR Doc. 2018-17759 Filed 8-16-18; 8:45 am]

BILLING CODE 4140-01-P